DEPARTMENT OF ENERGY

Federal Energy Regulatory Commission

[Project No. 3730-005]

Salmon Creek Hydroelectric Company, Salmon Creek Hydroelectric Company, LLC; Notice of Transfer of Exemption

1. By letter filed September 23, 2013, Salmon Creek Hydroelectric Company informed the Commission that they have changed its name to Salmon Creek Hydroelectric Company, LLC for the Salmon Creek Hydroelectric Project, FERC No. 3730, originally issued August 10, 1981.¹ The project is located on Salmon and Sardine Creeks in Sierra County, California. The transfer of an exemption does not require Commission approval.

¹ 16 FERC ¶ 62,209, Order Granting Exemption from Licensing of a Small Hydroelectric Project of 5 Megawatts or Less and Dismissing Application for Preliminary Permit.

2. Salmon Creek Hydroelectric Company, LLC is now the exemptee of the Salmon Creek Hydroelectric Project, FERC No. 3730. All correspondence should be forwarded to: Mr. Mark Henwood, Salmon Creek Hydroelectric Company, LLC, 7311 Greenhaven Drive, Suite 275, Sacramento, CA 95831.

Dated: October 15, 2013.
Kimberly D. Bose,
Secretary.

[FR Doc. 2013-24528 Filed 10-21-13; 8:45 am]

BILLING CODE 6717-01-P